NATIONAL AERONAUTICS AND SPACE ADMINISTRATION

[Notice (08-075)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: October 9, 2008.

FOR FURTHER INFORMATION CONTACT: Linda B. Blackburn, Patent Counsel, Langley Research Center, Mail Code 141, Hampton, VA 23681-2199; telephone (757) 864-3221; fax (757) 864-9190.

NASA Case No. LAR-17335-1: Deconvolution Methods and Systems for the Mapping of Acoustic Sources from Phased Microphone Arrays;

NASA Case No. LAR-16867-2: Sensing/Actuating Materials Made from Carbon Nanotube Polymer Composites and Methods for Making Same;

NASA Case No. LAR-17432-1: Forward Voltage Short-Pulse Technique for Measuring High Power Laser Diode Array Junction Temperature;

NASA Case No. LAR-17485-1: Metal/Fiber Laminate and Fabrication Using a Porous Metal/Fiber Preform;

NASA Case No. LAR-16538-1: Micro-LiDAR Velocity, Temperature, Density, Concentration Sensor;

NASA Case No. LAR-17477-1: Method and System for Aligning Fibers During Electrospinning;

NASA Case No. LAR-16640-1: Dynamic Optical Grating Device and Associated Method for Modulating Light;

NASA Case No. LAR-17361-1: Airfoil System for Cruising Flight;

NASA Case No. LAR-17526-1: Adaptive Refinement Tools for Tetrahedral Unstructured Grids;

NASA Case No. LAR-17413-1: Nanoparticle-Containing Thermoplastic Composites and Methods of Preparing Same;

NASA Case No. LAR-17243-1: Variably Transmittive, Electronically-Controlled Eyewear.

Dated: October 3, 2008.
Michael C. Wholley,
General Counsel.

[FR Doc. E8-24039 Filed 10-8-08; 8:45 am]

BILLING CODE 7510-13-P